SECURITIES AND EXCHANGE COMMISSION

Sunshine Act Meeting

Notice is hereby given, pursuant to the provisions of the Government in the Sunshine Act, Public Law 94-409, that the Securities and Exchange Commission will hold an Open Meeting on Wednesday, August 5, 2015 at 10:00 a.m., in the Auditorium, Room L-002.

The subject matter of the Open Meeting will be:

• The Commission will consider whether to adopt rules and forms under the Securities Exchange Act of 1934 (“Exchange Act”) providing for the registration of security-based swap dealers and major security-based swap participants.

• The Commission will consider whether to propose a rule of practice to provide a process for a registered security-based swap dealer or major security-based swap participant to make an application to the Commission for an order permitting an associated person who is subject to a statutory disqualification to effect or be involved in effecting security-based swaps on behalf of the security-based swap dealer or major security-based swap participant.

• The Commission will consider whether to adopt a rule requiring public companies to disclose the ratio of the annual total compensation of the chief executive officer to the median of the annual total compensation of the company's employees as required by section 953(b) of the Dodd-Frank Wall Street Reform and Consumer Protection Act.

At times, changes in Commission priorities require alterations in the scheduling of meeting items.

For further information and to ascertain what, if any, matters have been added, deleted, or postponed, please contact: The Office of the Secretary at (202) 551-5400.

Dated: July 29, 2015.
Brent J. Fields,
Secretary.

[FR Doc. 2015-19077 Filed 7-30-15; 4:15 pm]

BILLING CODE 8011-01-P